DEPARTMENT OF THE INTERIOR

Bureau of Land Management

[LLIDC00000.09.L10400000.JI0000.241A.00]

Notice of Call for Nomination for Idaho's Coeur d'Alene District Resource Advisory Council

AGENCY: Bureau of Land Management, Interior.

ACTION: Notice of Call for Nominations for Idaho's Coeur d'Alene District Resource Advisory Council.

SUMMARY: The purpose of this notice is to request public nominations to fill one position in Category Three, (Elected Official), for Idaho's Coeur d'Alene District Resource Advisory Council (RAC). The Federal Land Policy and Management Act (FLPMA) (43 U.S.C. 1730) directs the Secretary of the Interior (Secretary) to involve the public in planning and issues related to management of lands administered by Bureau of Land Management (BLM). Section 309 of FLPMA directs the Secretary to select 10 to 15 member citizen-based advisory councils, which are consistent with the requirements of the Federal Advisory Committee Act (FACA). RACs are found at 43 CFR part 1784.

DATES: The BLM will accept public nominations until March 23, 2009. Applicants are requested to submit a completed nomination form and nomination letters to the address listed below.

FOR FURTHER INFORMATION CONTACT: Lisa A. Wagner, RAC Coordinator, Coeur d'Alene District, Bureau of Land Management, 3815 Schreiber Way Coeur d'Alene, Idaho 83815 or telephone at (208) 769-5014.

SUPPLEMENTARY INFORMATION: The BLM Coeur d'Alene District RAC is hosting a call for nominations for the position of Elected Official (representatives of state, county, or local elected office) on the advisory council. Upon appointment, the individual selected to this position will fill the seat until September 19, 2010, the remainder of this position's term. Individuals may nominate themselves or others. Nominees must be residents of Idaho. The BLM will evaluate nominees based on their education, training, experience, and their knowledge of the geographical area of the RAC. Nominees should demonstrate a commitment to collaborative resource decisionmaking.

The following must accompany nominations:

• Letters of reference from represented interest or organizations,

• A completed background information nomination form; and,

• Any other information that highlights the nominee's qualifications.

Gary D. Cooper,
District Manager.

[FR Doc. E9-3542 Filed 2-19-09; 8:45 am]

BILLING CODE 4310-GG-M